DEPARTMENT OF TRANSPORTATION

Surface Transportation Board

[STB Finance Docket No. 33975]

Gulf & Ohio Railways, Inc., d/b/a Mississippi Delta Railroad—Lease and Operation Exemption—Lines of the County of Coahoma, Mississippi

Gulf & Ohio Railways, Inc., d/b/a Mississippi Delta Railroad (MSD), a Class III rail carrier, has filed a notice of exemption under 49 CFR 1150.41 to lease and operate approximately 18.6 miles of rail line owned by the County of Coahoma, Mississippi (Coahoma), from milepost 55.40 at or near Lula, MS, to milepost 74.00 at or near Lyon, MS (the Lula line). MSD also seeks to lease from Coahoma the lines extending from milepost 74.00 at or near Lyon, to milepost 79.00 at or near Clarksdale, Coahoma County, MS, and from milepost 76.54 at or near Clarksdale to milepost 104.00 at or near Swan Lake, Tallahatchie County, MS. In addition, Coahoma will assign MSD its rights to operate over 1.39 miles of incidental trackage rights extending from milepost 104.00 to milepost 105.39 at or near Swan Lake.¹ MSD originally acquired or leased the above lines from Illinois Central Railroad Company.² MSD certifies that its projected revenues as a result of this transaction will not result in the creation of a Class II or Class I rail carrier.

¹ See County of Coahoma, Mississippi—Acquisition Exemption—line of Illinois Central Railroad Company, STB Finance Docket No. 33953 (STB served Dec. 7, 2000).

² See Gulf & Ohio Railways, Inc.—Exemption From 49 U.S.C. 11301, 10901 and 11322, Finance Docket No. 30683 (ICC served Nov. 6, 1985).

This transaction is related to a simultaneously filed notice of exemption in STB Finance Docket No. 33977, County of Coahoma, Mississippi—Acquisition Exemption—Line of Gulf & Ohio Railways, Inc., d/b/a Mississippi Delta Railroad, wherein Coahoma seeks to acquire the Lula line from MSD.

MSD states that it has agreed to operate the above-described rail lines through June 30, 2001, in order to provide Coahoma time to locate a long-term operator. See STB Finance Docket No. 33977.

The transaction was scheduled to be consummated on or shortly after December 20, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33975, must be filed with the Surface Transportation Board, Office of the Secretary, Case Control Unit, 1925 K Street, NW., Washington, DC 20423-0001. In addition, one copy of each pleading must be served on Rose-Michele Weinryb, Esq., Weiner, Brodsky, Sidman & Kider, P.C., 1300 19th Street, NW., Fifth Floor, Washington, DC 20036-1609.

Board decisions and notices are available on our website at http:// WWW.STB.DOT.GOV.

Decided: December 28, 2000.
By the Board, David M. Konschnik, Director, Office of Proceedings.
Vernon A. Williams,
Secretary.

[FR Doc. 01-209 Filed 1-3-01; 8:45 am]

BILLING CODE 4915-00-P